DEPARTMENT OF LABOR

Employment and Training Administration

[TA-W-65,632]

Duct Sox Corporation, a Subsidiary of Rite Hite, Dubuque, IA; Notice of Termination of Investigation

Pursuant to Section 221 of the Trade Act of 1974, as amended, an investigation was initiated on March 18, 2009 in response to a worker petition filed by workers of Duct Sox Corporation, a subsidiary of Rite Hite, Dubuque, Iowa.

The petitioners have requested that the petition be withdrawn. Consequently, the investigation has been terminated.

Signed at Washington, DC, this 19th day of May 2009.
Elliott S. Kushner,
Certifying Officer, Division of Trade Adjustment Assistance.

[FR Doc. E9-15288 Filed 6-26-09; 8:45 am]

BILLING CODE 4510-FN-P